DEPARTMENT OF HEALTH AND HUMAN SERIVCES

Announcement of Solicitation of Written Comments on Modifications of Healthy People 2020 Objectives

AGENCY: Office of Disease Prevention and Health Promotion, Office of the Assistant Secretary for Health, Office of the Secretary, Department of Health and Human Services.

ACTION: Notice.

SUMMARY: The U.S. Department of Health and Human Services solicits written comments regarding new objectives proposed to be added to Healthy People 2020 since the fall 2014 public comment period, as well as written comments proposing new objectives to be included within existing Healthy People 2020 topic areas. Public participation helps shape Healthy People 2020, its framework, objectives, organization, and targets. Healthy People 2020 will provide opportunities for public input periodically throughout the decade to ensure that Healthy People 2020 reflects current public health priorities and public input. The updated set of Healthy People 2020 objectives will be incorporated on www.HealthyPeople.gov. This set will reflect further review and deliberation by the topic area workgroups, Federal Interagency Workgroup on Healthy People 2020, and other Healthy People 2020 stakeholders.

DATES: Written comments will be accepted until 5:00 p.m. ET on November 16, 2015.

ADDRESSES: Written comments will be accepted via an online public comment database at http://www.healthypeople.gov/2020/about/history-development/Public-Comment; by mail at the Office of Disease Prevention and Health Promotion, U.S. Department of Health and Human Services, Attn: Public Comment, 1101 Wootton Parkway, Room LL-100, Rockville, MD 20852; fax—(240) 453-8281; or email—HP2020@hhs.gov.

FOR FURTHER INFORMATION CONTACT: Caitie Blood, MPH, Office of Disease Prevention and Health Promotion, U.S. Department of Health and Human Services, 1101 Wootton Parkway, Room LL-100, Rockville, MD 20852, Caitlin.Blood@HHS.gov (email), (240) 453-8265 (telephone), (240) 453-8281 (fax).

SUPPLEMENTARY INFORMATION: For three decades, Healthy People has provided a comprehensive set of national 10-year health promotion and disease prevention objectives aimed at improving the health of all Americans. Healthy People 2020 objectives provide a framework by presenting a comprehensive picture of the nation's health at the beginning of the decade, establishing national goals and targets to be achieved by the year 2020, and monitoring progress over time. The U.S. Department of Health and Human Services is soliciting the submission of written comments regarding new objectives proposed to be added to Healthy People 2020 since the fall 2014 public comment period.

Healthy People 2020 is the product of an extensive collaborative process that relies on input from a diverse array of individuals and organizations, both within and outside the federal government, with a common interest in improving the nation's health. Public comments were a cornerstone of Healthy People 2020's development. During the first phase of planning for Healthy People 2020, HHS asked for the public's comments on the vision, mission, and implementation of Healthy People 2020. Those comments helped set the framework for Healthy People 2020. The public was also invited to submit comments on proposed Healthy People 2020 objectives, which helped shape the final set of Healthy People 2020 objectives.

The public is now invited to comment on new objectives proposed to be added to Healthy People 2020. These new objectives were developed by topic area workgroups led by various agencies within the federal government. They have been reviewed by the Federal Interagency Workgroup on Healthy People 2020 and are presented now for the public's review and comment. The public is also invited to suggest additional objectives for consideration that address critical public health issues within existing Healthy People 2020 topic areas. Any proposed new objective must meet all of the objective selection criteria (see below).

Written comments will be accepted at http://www.healthypeople.gov/2020/about/history-development/Public-Comment during a 30-day public comment period beginning in October 2015. The public will also be able to submit written comments via mail, fax, and email (see contact information above). Comments received in response to this notice will be reviewed and considered by the appropriate topic area workgroup, Federal Interagency Workgroup on Healthy People 2020, and other Healthy People 2020 stakeholders.

Objective Selection Criteria

The following nine criteria should be taken into consideration when commenting on the proposed new objectives or suggesting additional objectives.

1. The result to be achieved should be important and understandable to a broad audience and support the Healthy People 2020 goals.

2. Objectives should be prevention oriented and should address health improvements that can be achieved through population-based and individual actions, and systems-based, environmental, health-service, or policy interventions.

3. Objectives should drive actions that will work toward the achievement of the proposed targets (defined as quantitative values to be achieved by the year 2020).

4. Objectives should be useful and reflect issues of national importance. Federal agencies, states, localities, non-governmental organizations, and the public and private sectors should be able to use objectives to target efforts in schools, communities, work sites, health practices, and other environments.

5. Objectives should be measurable and should address a range of issues, such as: Behavior and health outcomes; availability of, access to, and content of behavioral and health service interventions; socio-environmental conditions; and community capacity—directed toward improving health outcomes and quality of life across the life span. (Community capacity is defined as the ability of a community to plan, implement, and evaluate health strategies.)

6. Continuity and comparability of measured phenomena from year to year are important, thus, when appropriate, retention of objectives from previous Healthy People iterations is encouraged. However, in instances where objectives and/or measures have proven ill-suited to the purpose or are inadequate, new improved objectives should be developed. Whether or not an objective has met its target in a previous Healthy People iteration should not be the sole basis for retaining or archiving an objective.

7. The objectives should be supported by the best available scientific evidence. The objective selection and review processes should be flexible enough to allow revisions to objectives in order to reflect major updates or new knowledge.

8. Objectives should address population disparities. These include populations categorized by race/ethnicity, socioeconomic status, gender, disability status, sexual orientation, and geographic location. For particular health issues, additional special populations should be addressed, based on an examination of the available evidence on vulnerability, health status, and disparate care.

9. Healthy People 2020, like past versions, is heavily data driven. Valid, reliable, nationally representative data and data systems should be used for Healthy People 2020 objectives. Each objective must have (1) a data source, or potential data source, identified, (2) baseline data and (3) assurance of at least one additional data point throughout the decade.

Dated: October 9, 2015.
Don Wright,
Deputy Assistant Secretary for Health, Office of Disease Prevention and Health Promotion.

[FR Doc. 2015-26244 Filed 10-14-15; 8:45 am]

BILLING CODE 4150-32-P